DEPARTMENT OF COMMERCE

National Oceanic and Atmospheric Administration

RIN 0648-XC75

Fisheries of the Caribbean, Gulf of Mexico, and South Atlantic; Amendment 3 to the Fishery Management Plan for the Spiny Lobster Fishery of Puerto Rico and the U.S. Virgin Islands and Amendment 4 to the Reef Fish Fishery Management Plan of Puerto Rico and the U.S. Virgin Islands

AGENCY: National Marine Fisheries Service (NMFS), National Oceanic and Atmospheric Administration (NOAA), Commerce.

ACTION: Notice; intent to prepare a draft environmental impact statement (DEIS); scoping meetings; request for comments.

SUMMARY: The Caribbean Fishery Management Council (Council)in conjunction with NMFS intends to prepare a DEIS to describe and analyze management alternatives to be included in a joint amendment to the Fishery Management Plan (FMP) for the Spiny Lobster Fishery of Puerto Rico and the U.S. Virgin Islands (USVI) and the FMP for the Reef Fish Fishery of Puerto Rico and the USVI. These alternatives will consider measures to implement escape vents in the trap fishery sector of both fisheries. The purpose of this notice of intent is to solicit public comments on the scope of issues to be addressed in the DEIS.

DATES: Written comments on the scope of issues to be addressed in the DEIS must be received by the Council or NMFS (see ADDRESSES below) by November 8, 2007. A series of scoping meetings will be held in October 2007. See SUPPLEMENTARY INFORMATION below for the specific dates, times, and locations of the scoping meetings.

ADDRESSES: You may submit comments on the proposed rule by any of the following methods:

• E-mail: 0648-XC75.Proposed@noaa.gov. Include in the subject line the following document identifier: 0648-XC75.

• Mail: Jason Rueter, Southeast Regional Office, NMFS, 263 13th Avenue South, St. Petersburg, FL 33701.

• Fax: 727-824-5308.

• Mail: Graciela Garcia-Moliner, Caribbean Fishery Management Council, 268 Muñoz Rivera Avenue, Suite 1108, San Juan, PR 00918-25772203;

• Fax: 787-766-6239.

• E-mail: Graciela.Garcia-Moliner@noaa.gov.

FOR FURTHER INFORMATION CONTACT: Graciela Garcia-Moliner; phone: 787-766-5927; fax: 787-766-6239; e-mail: Graciela.Garcia-Moliner@noaa.gov; or Jason Rueter; phone: 727-824-5350; fax: 727-824-5308; or e-mail: Jason.Rueter@noaa.gov.

SUPPLEMENTARY INFORMATION: Many species of fish in the reef fish fishery in Puerto Rico and the USVI are believed to be overexploited, largely due to trap fishing and bycatch associated with this fishery. Landings from the trap fishery have continuously decreased since 1990 in Puerto Rico; species composition has changed; and size frequency of some fish has decreased over the last 10 years. These effects have been attributed to excessive trap fishing effort, lack of compliance with trap construction requirements (i.e., fishers often do not use the required biodegradable fasteners on trap doors), use of other gears by commercial fishers (e.g., gill nets), and the lack of escape panels in traps which would allow smaller fishes to escape, resulting in high mortality of juveniles and a loss of long-term potential yield.

According to the NMFS Report on the Status of the U.S. Fisheries for 2006, five stocks are undergoing overfishing, four are overfished, and two are approaching an overfishing condition. The five stocks undergoing overfishing are Grouper Unit 1 (Nassau grouper), Grouper Unit 4 (red, yellowedge, misty, tiger, and yellowfin grouper), Snapper Unit 1 (silk, blackfin, black, and vermilion snapper), parrotfishes, and queen conch. The four stocks that are overfished are Grouper Unit 1 (Nassau grouper), Grouper Unit 2 (goliath grouper), Grouper Unit 4 (red, yellowedge, misty, tiger, and yellowfin grouper), and queen conch. The two stocks approaching an overfished condition are Snapper Unit 1 (silk, blackfin, black, and vermilion snapper) and parrotfishes. All of the finfish species and spiny lobster are susceptible to trap capture at some life history stage, particularly the juvenile stage.

Under current fishing practices, bycatch and the associated mortality of bycatch is not expected to be reduced sufficiently in the reef fish or spiny lobster trap fisheries. Without a reduction in bycatch, those stocks experiencing overfishing may become overfished, and those stocks overfished may not meet the goals of the rebuilding plan set forth in the Sustainable Fisheries Act Amendment of 2005. Therefore, the use of escape panels as a management tool is proposed in this amendment to help achieve the necessary reductions in fishing mortality among the species harvested by traps.

The Council in conjunction with NMFS will develop a DEIS to describe and analyze management alternatives to implement escape panels in the trap sector of both fisheries. The DEIS will provide updates to the best available scientific information regarding the reef fish complex and the spiny lobster stock, and based on the information, the Council, in conjunction with NMFS, will determine what actions and alternatives are necessary to protect reef fishes and spiny lobster. Those alternatives may include, but are not limited to: a “no action” alternative regarding the fisheries, which would not require escape vents; alternatives to require one escape panel of various sizes and shapes in traps; and an alternative requiring two escape panels of various sizes and shapes.

In accordance with NOAA's Administrative Order NAO 216-6, Section 5.02(c), the Council, in conjunction with NMFS, has identified this preliminary range of alternatives as a means to initiate discussion for scoping purposes only. This may not represent the full range of alternatives that eventually will be evaluated by the Council and NMFS.

Once the Council and NMFS completes the DEIS associated with the amendment to the Caribbean reef fish and spiny lobster FMPs, NMFS will submit the DEIS for filing with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS) and before adopting final management measures for the amendment. The Council will submit both the final joint amendment and the supporting FEIS to NMFS for review under the Magnuson-Stevens Fishery Conservation and Management Act, i.e., Secretarial review.

NMFS will announce, through a notice published in the Federal Register, the availability of the final joint amendment for public review during the Secretarial review period. During Secretarial review, NMFS will also file the FEIS with the EPA for a final 30-day public comment period. This comment period will be concurrent with the Secretarial review period and will end prior to final agency action to approve, disapprove, or partially approve the final joint amendment.

NMFS will announce, through a notice published in the Federal Register, all public comment periods on the final joint amendment, its proposed implementing regulations, and its associated FEIS. NMFS will consider all public comments received during the Secretarial review period, whether they are on the final amendment, the proposed regulations, or the FEIS, prior to final agency action.

Scoping Meeting Dates, Times, and Locations

All scoping meetings are scheduled to be held from 7 p.m. to 10 p.m. The meetings will be physically accessible to people with disabilities. Request for sign language interpretation or other auxiliary aids should be directed to the Council (see ADDRESSES).

October 16—Windward Passage Hotel, Charlotte Amalie, St. Thomas, USVI.

October 17—Buccaneer Hotel, Christiansted, St Croix, USVI.

October 23—Pierre Hotel, De Diego Avenue, San Juan, PR.

October 24—Ponce Golf and Casino Resort, 1150 Caribe Avenue, Ponce, PR.

October 25—Mayaguez Holiday Inn, 2701 Highway #2, Mayaguez, PR.

Authority: 16 U.S.C. 1801 et seq.

Dated: October 2, 2007.
Emily H. Menashes,
Acting Director, Office of Sustainable Fisheries, National Marine Fisheries Service.

[FR Doc. E7-19811 Filed 10-5-07; 8:45 am]

BILLING CODE 3510-22-S